DEPARTMENT OF HEALTH AND HUMAN SERVICES

Administration for Children and Families

Submission for OMB Review; Comment Request

Title: Low Income Home Energy Assistance Program Performance Measures.

OMB No.: New Collection.

Description

The Low Income Home Energy Assistance Program (LIHEAP) block grant (42 U.S.C. 8621 et seq.) was established under Title XXVI of the Omnibus Budget Reconciliation Act of 1981, Public Law 97-35. The Office of Community Services (OCS) within the U.S. Department of Health and Human Services (HHS), Administration for Children and Families (ACF) administers LIHEAP at the federal level.

The LIHEAP statute requires HHS to develop performance measures and report to Congress annually on program impacts on recipient and eligible households. The primary program goals, as articulated in the statute, are to ensure that benefits are targeted to those households where the greatest program impacts are expected, and to assure that timely resources are available to households experiencing home energy crises.

OCS is seeking authorization to collect data from all state grantees and the District of Columbia that will establish performance indicators of the impact of LIHEAP services on its recipients. Specific data elements OCS is seeking to collect are detailed below.

Broken down by main heating fuel type, report for all households receiving any type of LIHEAP-funded energy bill assistance and for all high energy burden households receiving any type of LIHEAP-funded energy bill assistance (“high energy burden households” is defined as the top 25% of all bill assistance households sorted by energy burden for that state):

• Total number of unduplicated households receiving LIHEAP-funded energy bill assistance. Note that the total number of unduplicated households served with LIHEAP funds is a current reporting requirement for the LIHEAP Household Report—Long Form. This new requirement is in addition to that requirement and is a slight variation in that grantees will be asked to exclude households receiving only LIHEAP services that are not related to payment of energy bills (such as weatherization assistance or heating/cooling equipment repairs/replacements).

• Average household income.

• Average household benefit. Note that the average LIHEAP cash benefit is currently a required reporting element for the LIHEAP Grantee Survey. In the Grantee Survey, state grantees are required to report the average benefit, broken down by program component (heating assistance, cooling assistance, crisis assistance, etc.). This new reporting requirement would be in addition to and is a slight variation on the existing requirement, in that state grantees will be asked to add all the different component cash benefits together and report average benefits broken down by client fuel type, such as fuel oil, natural gas, electricity, etc.

• Annual cost of main heating fuel.

• Annual electricity cost.

• Annual consumption of main heating fuel (optional).

• Annual consumption of electricity (optional).

For all households, by main heating fuel, report the:

• Number of households where utility service termination was prevented.

• Number of households where a fuel delivery prevented a loss of service.

• Number of households where heating or cooling equipment was repaired or replaced prior to failure.

• Number of households where utility service was restored

• Number of households where a fuel delivery was made to a home that was out of fuel

• Number of households where broken heating or cooling equipment was fixed due to being inoperable.

Based on the data collected from grantees through the ACF On-Line Data Collection System (OLDC), OCS will calculate performance measures and report the results through the annual budget development process and in the annual LIHEAP Report to Congress. The data will help inform ACF and grantees about the impact LIHEAP has with respect to LIHEAP households' home energy burden (the proportion of their income spent towards their home heating and cooling bills), restoring home energy service, and preventing loss of home energy service. Once the data are published in the LIHEAP Report to Congress, grantees will be able to compare their own results to the results for other states, as well as to regional and national results, through the LIHEAP Performance Measurement Web site.

Respondents

ACF published a Federal Register notice on June 6, 2013 soliciting 60 days of public comment on requiring new LIHEAP performance measures. ACF received comments regarding the first Federal Register notice from LIHEAP grantees, LIHEAP sub-grantees, utility companies, national energy assistance associations, and individual low-income advocates. In response to the issues and concerns raised by the comments to the first Federal Register Notice, ACF has made several adjustments to its proposed data collection, as summarized below.

Previously Required Data Elements Will Be Optional

In an effort to address concerns about the burden of reporting, some previously required data elements are now being proposed as optional. Specifically, household utility consumption data and supplemental fuel and air conditioning expenditure and consumption data, originally required for the energy burden reduction measure, will be optional for all grantees. Grantees will be encouraged to collect this information wherever possible so that OCS can identify best practices, strategies, and benefits associated with this information.

Burden Reduction Sampling Plans To Be Developed

OCS also is developing best practice information to demonstrate to grantees how to collect the highest quality data with the lowest burden. As part of that effort, OCS is working collaboratively with state grantees that already collect the required data to develop an effective vendor and client sampling procedure that will furnish performance indicators within the targeted precision guidelines. ACF is planning to require that grantees obtain data the largest five electric and natural gas companies (by numbers of LIHEAP households served) and the largest ten fuel oil vendors (if applicable), largest ten propane vendors (if applicable), and largest ten other vendors that have automated information systems.

In addition to the revisions made in response to public comments, ACF has also decided to merge this proposed data form with the LIHEAP Grantee Survey form. The Grantee Survey is a form that is required of all state grantees and the District of Columbia. The form has been used by ACF since the early 1980's. It last received OMB clearance for fiscal years 2011-2014, under OMB clearance number 0970-0076. ACF proposes adding the previously cleared content with only two minor adjustments—a clarification to the instructions to grantees about the average household benefit amounts calculation and the addition of data fields needed for the performance impact data relating to the average household benefit by fuel type. This data will then be prepopulated into the performance impact section of the form to allow ACF to make the necessary calculations for the performance data. Grantees will submit this combine LIHEAP Performance Data Form to ACF by January 15th of each year. The grantee survey section of the form will be due beginning January 15, 2015 (same data as normally required annually), and the remaining sections of the form (performance impact data) will begin to be due annually starting January 15, 2016 regarding the prior federal fiscal year.

Annual Burden Estimates

The incremental burden associated with collecting the required data elements and furnishing reports to ACF through OLDC will be different for each grantee. Preliminary information from grantees has shown that some already collect extensive data on client energy expenditures and client service disruptions, while others have little or no data available to support the proposed reports. ACF is using the information collected on all state grantees capacity for this data collection requirement to develop individualized technical assistance to states to build their capacity for successfully providing valid and reliable data. ACF has already begun implementing technical assistance and training to state grantees regarding the proposed data.

ACF conducted in-depth interviews with a small number of Best Practice grantees to learn more about their system development procedures and the annual burden hours required to implement their data collection and reporting systems. ACF found that some systems were designed to address both program administration and performance measurement goals, while others were mainly focused on performance measurement goals. The lowest burden systems are those that are focused on performance measurement goals. The burden estimates listed below assume that the required incremental burden should be limited to the incremental burden associated with performance measurement data collection and reporting only.

The table below shows the estimated data collection and reporting burden for the performance impact data. These estimates are based on a small number of interviews with grantees, sub-grantees, and energy vendors that are currently reporting data in that way.

Instrument | Number of respondents | Number of responses per respondent | Average burden hours per response | Total burden hours
Grantees | 51 | 1 | 100 | 5,100
Sub-Grantees (in states with sub-grantee managed systems) | ¹ 200 | 1 | 80 | 16,000
Large Energy Vendors (largest 5 electric, 5 gas, 10 fuel oil, and 10 propane vendors per state—average) | ¹ 1,530 | 1 | 40 | 61,200
Small Energy Vendors (excluded except in special circumstances) | 200 | 1 | 10 | 2,000
Total Annual Burden Hours | 1,981 | 1 | (²) | 84,300
¹ Estimate.
² Varies.

The following burden estimates pertain to the grantee survey section of the form:

Annual Burden Estimates for LIHEAP Performance Data Form: Part I—LIHEAP Grantee Survey
| Number of respondents | Number of responses per respondent | Average hour burden per response | Total burden hours
Grantees | 51 | 1 | 3.5 | 178.50

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV Attn: Desk Officer for the Administration for Children and Families.

Robert Sargis,
Reports Clearance Officer.

[FR Doc. 2014-13031 Filed 6-4-14; 8:45 am]

BILLING CODE 4184-01-P